DEPARTMENT OF ENERGY

Federal Energy Regulatory Commission

[Docket Nos. ER99-1757-002, ER99-1757-003, ER99-1757-004, ER99-1757-005, ER99-1757-006, ER99-1757-007, EL05-67-000]

The Empire District Electric Company; Notice of Institution of Proceeding and Refund Effective Date

March 7, 2005.

On March 3, 2005, the Commission issued an order in the above-referenced dockets initiating a proceeding in Docket No. EL05-67-000 under section 206 of the Federal Power Act to determine whether The Empire District Electric Company may continue to charge market-based rates.

The refund effective date in Docket No. EL05-67-000, established pursuant to section 206 of the Federal Power Act, will be 60 days following publication of this notice in the Federal Register.

Linda L. Mitry,
Deputy Secretary.

[FR Doc. E5-1092 Filed 3-14-05; 8:45 am]

BILLING CODE 6717-01-P